DEPARTMENT OF COMMERCE

National Oceanic and Atmospheric Administration

[I.D. 101900B]

Marine Mammals; File No. 633-1483-03

AGENCY: National Marine Fisheries Service (NMFS), National Oceanic and Atmospheric Administration (NOAA), Commerce.

ACTION: Receipt of application for amendment.

SUMMARY: Notice is hereby given that Dr. Charles A. Mayo, Center for Coastal Studies, 59 Commercial Street P.O. Box 1036, Provincetown, Massachusetts 02657, has requested an amendment to scientific research Permit No. 633-1483.

DATES: Written or telefaxed comments must be received on or before November 30, 2000.

ADDRESSES: The amendment request and related documents are available for review upon written request or by appointment in the following office(s):

Permits and Documentation Division, Office of Protected Resources, NMFS, 1315 East-West Highway, Room 13705, Silver Spring, MD 20910 (301/713-2289); and

Northeast Region, NMFS, One Blackburn Drive, Gloucester, MA 01930-2298; phone (508)281-9250; fax (508)281-9371.

Written comments or requests for a public hearing on this request should be submitted to the Chief, Permits and Documentation Division, F/PR1, Office of Protected Resources, NMFS, 1315 East-West Highway, Room 13130, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Simona Roberts or Ruth Johnson, 301/713-2289.

SUPPLEMENTARY INFORMATION: The subject amendment to Permit No. 633-1483, issued on March 3, 1999 (64 FR 10276), is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-227).

Permit No. 633-1483 authorizes the permit holder to (Project I): (1) conduct behavioral observations of, and photo-identify northern right whales during aerial and vessel surveys; (2) place VHF tags on right whales during the course of vessel surveys; (3) collect skin and blubber biopsy samples and sloughed skin; and (4) export skin samples for genetic analysis. And, under Project II (humpback whales), to: (1) develop a genealogy of the Gulf of Maine humpback whale population; (2) determine paternity and evaluate male reproductive success; (3) evaluate the influence of relatedness on feeding distribution, behavior and social organization; (4) determine individual movement and habitat preferences; (5) evaluate rates and severity of entanglement; (6) monitor trends in abundance, reproductive rates, recruitment, and mortality; and (7) opportunistically photo-identify and biopsy sample various Balaenopterid species.

With this application for amendment, the permit holder requests authorization (Project III) to attach a non-invasive optical device (“critter cam”) to seven North Atlantic right whales in Cape Cod Bay for collecting video documentation in order to better assess prey selectivity and movements of the whales during foraging and the quality of the food layer supporting the whales. This documentation will provide a subsurface tool for supplementing CCS' on-going oceanographic surveys and for “ground-truthing” current estimates of prey patch density and area in Cape Cod Bay.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: October 25, 2000.
Ann D. Terbush,
Chief, Permits and Documentation Division, Office of Protected Resources, National Marine Fisheries Service.

[FR Doc. 00-27873 Filed 10-30-00; 8:45 am]

BILLING CODE 3510-22-S